DEPARTMENT OF THE INTERIOR

U.S. Geological Survey

[GX12BA02EEW0200]

Agency Information Collection Activities: Comment Request

AGENCY: U.S. Geological Survey (USGS), Interior.

ACTION: Notice of an extension of currently approved information collection.

SUMMARY: We (the U.S. Geological Survey) will ask the Office of Management and Budget (OMB) to approve the information collection (IC) 1028-0103 described below. To comply with the Paperwork Reduction Act of 1995 (PRA) and as part of our continuing efforts to reduce paperwork and respondent burden, we invite the general public and other Federal agencies to take this opportunity to comment on this IC. This collection is scheduled to expire on January 31, 2013.

DATES: Submit written comments by October 9, 2012.

ADDRESSES: You may submit comments on this information collection to the Information Collection Clearance Officer, U.S. Geological Survey, 12201 Sunrise Valley Drive MS 807, Reston, VA 20192 (mail); (703) 648-7199 (fax); or smbaloch@usgs.gov (email). Please Reference Information 1028-0103 in the subject line.

FOR FURTHER INFORMATION PLEASE CONTACT: Jake F. Weltzin, Ecologist, U.S. Geological Survey, jweltzin@usgs.gov, (520) 626-3821.

SUPPLEMENTARY INFORMATION:

Title: USA National Phenology Network—The Nature's Notebook Plant and Animal Observing Program.

OMB Control Number: 1028-0103.

Type of Request: Notice of an extension of a currently approved information collection.

Respondent Obligation: Voluntary.

Abstract: The USA-NPN is a program sponsored by the USGS that uses standardized forms for tracking plant and animal activity as part of a project called Nature's Notebook. The Nature's Notebook forms are used to record phenology (e.g., timing of leafing or flowering of plants and reproduction or migration of animals) as part of a nationwide effort to understand and predict how plants and animals respond to environmental variation and changes in weather and climate. Contemporary data collected through Nature's Notebook are quality-checked, described and made publicly available; data are used to inform decision-making in a variety of contexts, including agriculture, drought monitoring, and wildfire risk assessment. Phenological information is also critical for the management of wildlife, invasive species, and agricultural pests, and for understanding and managing risks to human health and welfare, including allergies, asthma, and vector-borne diseases. Participants may contribute phenology information to Nature's Notebook through a browser-based web application or via mobile applications for iPhone and Android operating systems, meeting GPEA requirements. The web application interface consists several components: User registration, a searchable list of 877 plant and animal species which can be observed; a “profile” for each species that contains information about the species including its description and the appropriate monitoring protocols; a series of interfaces for registering as an observer, registering a site, registering plants and animals at a site, generating datasheets to take to the field, and a data entry page that mimics the datasheets.

Frequency of Collection: On occasion. During the Spring and Fall seasons when phenology is changing quickly, we recommend respondents make observations twice per week.

Estimated Number and Description of Respondents: In addition to those users already registered, we expect an additional 1,027 users will register each year. These respondents are members of the public, registered with Nature's Notebook.

Estimated Annual Responses: 501,130.

Estimated Annual burden hours: 17,032.

Estimated Reporting and Recordkeeping “Non-Hour Cost” Burden: We estimate the non-hour cost burden to be $3.34. This cost applies to new observers and includes material used to mark sites or plants during the first observation. Marking helps to ensure reporting consistency for future observations.

Public Disclosure Statement: The PRA (44 U.S.C. 3501, et seq.) provides that an agency may not conduct or sponsor and you are not required to respond to a collection of information unless it displays a currently valid OMB control number.

Comments: We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology. Please note that the comments submitted in response to this notice are a matter of public record. Before including your address, phone number, email address, or other personal identifying information in your comment, you should be aware that your entire comment, including your personal identifying information, may be made publicly available at any time. While you can ask us in your comment to withhold your personal identifying information from public review, we cannot guarantee we will be able to do so.

Dated: August 3, 2012.
William Lellis,
Deputy Associate Director, Ecosystems Mission Area .

[FR Doc. 2012-19626 Filed 8-9-12; 8:45 am]

BILLING CODE 4311-AM-P